DEPARTMENT OF THE INTERIOR

Bureau of Land Management

[NM-922-04-1320-EL; OKNM 111344]

Invitation To Participate: Exploration for Coal in Oklahoma

AGENCY: Bureau of Land Management (BLM), Interior.

ACTION: Notice of invitation for coal exploration license application.

SUMMARY: Pursuant to the Mineral Leasing Act of February 25, 1920, as amended, and to Title 43, Code of Federal Regulations, subpart 3410, members of the public are hereby invited to participate with Farrell Cooper Mining Company, on a pro rata cost-sharing basis in a program for the exploration of unleased coal deposits owned by the United States of America containing approximately 6,160.82 acres in Haskell, Latimer, and Le Flore Counties in the State of Oklahoma.

DATES: Written notice of intent to participate must be received no later than 30 calendar days after publication of this notice. Such written notice must include a justification for wanting to participate and any recommended changes in the exploration plan with specific reasons for such changes.

ADDRESSES: Any parties electing to participate in this coal exploration program shall notify in writing both, State Director, Bureau of Land Management, New Mexico State Office, P. O. Box 27115, Santa Fe, New Mexico 87502-0115, and Farrell Cooper Mining Company, P. O. Box 11050, Fort Smith, Arkansas 72917.

FOR FURTHER INFORMATION CONTACT: Ida T. Viarreal, New Mexico State Office, at (505) 438-7603 or Abe Elias, Tulsa Field Office, at (918) 621-4116.

SUPPLEMENTARY INFORMATION: This proposed coal exploration program is for the purpose of determining the quality and quantity of the coal in the area and will be conducted pursuant to an exploration plan, to be approved by the BLM. A copy of the coal exploration plan, as submitted by Farrell Cooper Mining Company, may be examined at the BLM, New Mexico State Office, 1474 Rodeo Road, Santa Fe, New Mexico, and the BLM, Tulsa Field Office, 7906 East 33rd Street, Suite 101, Tulsa, Oklahoma.

Dated: March 2, 2004.
Carsten F. Goff,
Acting State Director.

[FR Doc. 04-8160 Filed 4-9-04; 8:45 am]

BILLING CODE 4310-HC-P